DEPARTMENT OF HEALTH AND HUMAN SERVICES

Health Resources and Services Administration

Advisory Committee on Heritable Disorders and Genetic Diseases in Newborns and Children; Notice of Meeting

In accordance with section 10(a)(2) of the Federal Advisory Committee Act (Pub. L. 92-463), notice is hereby given of the following meeting:

Name: Advisory Committee on Heritable Disorders and Genetic Diseases in Newborns and Children (ACHDGDNC).

Dates and Times: Jan. 14, 2008, 9 a.m. to 5 p.m. Jan. 15, 2008, 8:30 a.m. to 3:00 p.m.

Place: Bethesda North Marriott Hotel and Conference Center, 5701 Marinelli Road, Bethesda, MD 20852.

Status: The meeting will be open to the public with attendance limited to space availability.

Purpose: The ACHDGDNC was established to advise and guide the Secretary regarding the most appropriate application of universal newborn screening tests, technologies, policies, guidelines and programs for effectively reducing morbidity and mortality in newborns and children having or at risk for heritable disorders. The ACHDGDNC also provides advice and recommendations concerning the grants and projects authorized under the Heritable Disorders Program.

Agenda: The meeting will include a presentation and continued discussions on the nomination/evaluation process for newborn screening candidate conditions. There will be presentations on utilizing partnerships for follow-up in newborn screening systems, a presentation from the Secretary's Advisory Committee on Genetics, Health and Society on an assessment of the impact of patients on access to tests in both clinical practice and public health settings, as well as presentations on the continued work and reports of the ACHDGDNC's subcommittees on laboratory standards and procedures, follow-up and treatment, and education and training, and the workgroup on research. Proposed agenda items are subject to change.

Time will be provided for public comment. Individuals who wish to provide public comment or who plan to attend the meeting and need special assistance, such as sign language interpretation or other reasonable accommodations, should notify the ACHDGDNC Staff, Jill F. Shuger, M.S. (contact information provided below).

Contact Person: Anyone interested in obtaining a roster of members or other relevant information should write or contact Jill F. Shuger, M.S., Maternal and Child Health Bureau, Health Resources and Services Administration, Room 18A-19, Parklawn Building, 5600 Fishers Lane, Rockville, Maryland 20857, Telephone (301) 443-1080, jshuger@hrsa.gov. Information on the Advisory Committee is available at http://mchb.hrsa.gov/programs/genetics/committee.

Dated: November 27, 2007.
Alexandra Huttinger,
Acting Director, Division of Policy Review and Coordination.

[FR Doc. E7-23334 Filed 11-30-07; 8:45 am]

BILLING CODE 4165-15-P